DEPARTMENT OF LABOR

Employment and Training Administration

[TA-W-64,977]

Circuit Check Inc., Maple Grove, MN; Notice of Termination of Investigation

Pursuant to Section 221 of the Trade Act of 1974, as amended, an investigation was initiated on January 23, 2009 in response to a petition filed by a company official on behalf of workers of Circuit Check Inc., Maple Grove, Minnesota.

The petitioner has requested that the petition be withdrawn. Therefore, the investigation under this petition has been terminated.

Signed at Washington, DC, this 13th day of March, 2009.
Linda G. Poole,
Certifying Officer, Division of Trade Adjustment Assistance.

[FR Doc. E9-6292 Filed 3-23-09; 8:45 am]

BILLING CODE 4510-FN-P